FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 011539-020.

Title: HLAG/NYK/MSC Vessel Sharing Agreement.

Parties: Companhia Libra de Navegacao; Compania Libra de Navegacion Uruguay S.A.; Hapag-Lloyd AG; Nippon Yusen Kaisha; and MSC Mediterranean Shipping Company SA.

Filing Party: Wayne R. Rohde, Esq.; Cozen O'Connor, 1200 19th Street NW., Washington, DC 20036.

Synopsis: The Amendment would delete CLNU as a party to the agreement, and revise the Applicable Law, Arbitration and Force Majeure provisions of the agreement.

Agreement No.: 012369.

Title: Crowley/Zim Space Charter Agreement.

Parties: Crowley Caribbean Services, LLC and Zim Integrated Shipping Services, Ltd.

Filing Party: Wayne R. Rohde, Esq.; Cozen O'Conner; 1200 19th Street NW., Washington, DC 20036.

Synopsis: The Agreement authorizes Crowley to charter space to Zim in the trade between Port Everglades, FL and Kingston, Jamaica.

Agreement No.: 012370.

Title: Volkswagen Konzernlogistik GmbH & Co. OHG/Hyundai Glovis Co., Ltd. Soace Charter Agreement.

Parties: Volkswagen Konzernlogistik GmbH & Co. OHG and Hyundai Glovis Co., Ltd.

Filing Party: Wayne R. Rohde, Esq.; Cozen O'Conner; 1200 19th Street NW., Washington, DC 20036.

Synopsis: The Agreement authorizes the parties to charter space to/from one another in the trade between Germany and the U.S. West Coast.

By Order of the Federal Maritime Commission.
Dated: November 6, 2015.
Rachel E. Dickon,
Assistant Secretary.

[FR Doc. 2015-28738 Filed 11-10-15; 8:45 am]

BILLING CODE 6730-01-P